DEPARTMENT OF JUSTICE

Antitrust Division

United States v. AT&T Corporation and Telecommunications, Inc., No. 1:98CV03170 (D.D.C. August 23, 1999); United States' Notice of Proposed Termination of the Final Judgment

Notice is hereby given that the United States and both AT&T Corporation (“AT&T”) defendant in the above-captioned matter, and Liberty Media Corporation (“Liberty”), have entered into a Stipulation to terminate the Final Judgment entered by the United States District Court for the District of Columbia on August 23, 1999. In this Stipulation filed with the Court, the United States has provisionally consented to termination of the Final Judgment, but has reserved the right to withdraw its consent pending receipt of public comments.

On December 30, 1998, the United States filed the complaint in this case alleging that the merger between AT&T and Tele-Communications, Inc., which would result in the indirect acquisition by AT&T of 23.5% of the shares of Sprint PCS, a competitor of AT&T in the mobile wireless telephone business, would substantially lessen competition in the provision of mobile telephone business, would substantially lessen competition in the provision of mobile telephone service in many geographic areas of the United States and thus violate section 7 of the Clayton Act, as amended, 15 U.S.C. 18. At the same time as it filed the Complaint, the United States filed a proposal Final Judgment to resolve the competitive concerns alleged in the Complaint, and a stipulation by defendants and the United States consenting thereto.

The Final Judgment, which was entered by consent of the parties on August 23, 1999, ordered the divestiture of the Spring PCS interest by a trustee over a five-year period and includes various provisions to ensure that AT&T's indirect partial ownership of Spring PCS would not create anticompetitive incentives. These provisions, among others, required that all economic benefits of Liberty's Sprint PCS holdings must inure exclusively to the holders of the Liberty Media Group tracking stock (which was created after the consummation of the merger between the defendants), forbade AT&T from transferring any of these benefits to AT&T shareholders, required certain amendments to the Liberty certificate of incorporation and bylaws, and imposed certain restrictions of Liberty's Board of Directors. Liberty also was restricted in its ability to acquire any interest in AT&T's wireless business.

On August 10, 2001, having received a favorable letter ruling from the Internal Revenue Service, AT&T spun off the businesses represented in the Liberty Media Tracking stock of AT&T into a separate, publicly traded company, Liberty Media Corporation (“Liberty”).

The United States, defendant AT&T and Liberty have provisionally agreed to terminate the Final Judgment because of the above-noted changed circumstances in the relationship between AT&T and Liberty. The legal and economic separation of AT&T and Liberty. As a result of the August 10, 2001 spin-off, have changed the circumstances under which the parties entered into the Final Judgment, which is no longer needed to protect competition in the mobile wireless telephone business. Therefore, terminating the Final Judgment is in the public interest.

The United States has filed a memorandum with the Court setting forth the reasons it believes termination of the Final Judgment would serve the public interest. Copies of the joint motion of the United States, AT&T, and Liberty to establish procedures to terminate the Final Judgment, the stipulation containing the United States' provisional consent to termination of the Final Judgment, the supporting memorandum, and all additional papers filed with the Court in connection with this motion are available for inspection at the Antitrust Documents Group of the Antitrust Division, U.S. Department of Justice, 325 7th Street, NW., Room 215 North, Liberty Place Building, Washington, DC 20530, and at the Office of the Clerk of the United States District Court for the District of Columbia, 333 Constitution Avenue, NW., Washington, DC. 20001. Copies of these materials may be obtained from the Antitrust Division upon request and payment of the duplicating fee set out in Department of Justice regulations.

Interested persons may submit comments regarding the proposed termination to the Department of Justice. Such comments must be received by the Antitrust Division within sixty (60) days of the last publication of notices appearing in the Wall Street Journal and Wireless Week, and will be filed with the Court by the Department. Comments should be addressed to Nancy M. Goodman, Chief, Telecommunications and Media Enforcement Section, Antitrust Division, U.S. Department of Justice, 1401 H St., NW., Suite 8000, Washington, DC. 20530 (telephone: 202-514-5621). Comments may also be sent via electronic mail to tel.comments@usdoj.gov or faxed to the attention of Peter Gray at 202-514-6381.

Constance K. Robinson,
Director of Operations.

[FR Doc. 02-4698 Filed 2-27-02; 8:45 am]

BILLING CODE 4410-11-M